DEPARTMENT OF ENERGY

Notice of Availability of Guidance and Application for Hydroelectric Efficiency Improvement Incentives

AGENCY: Grid Deployment Office, Department of Energy.

ACTION: Notice of availability of guidance and open application period.

SUMMARY: The Department of Energy (DOE) Grid Deployment Office (GDO) gives notice of availability of guidance for the Hydroelectric Efficiency Improvement Incentives as authorized through the Energy Policy Act of 2005 (EPAct 2005), as amended by the Infrastructure Investment and Jobs Act (IIJA) of 2021, and the opening of the 2023 application period. The guidance describes the hydroelectric efficiency improvement incentives payment requirements, including application requirements, that qualified hydroelectric facilities must provide DOE when applying for hydroelectric efficiency improvement incentives.

DATES: DOE is currently accepting applications from March 22, 2023 through 5:00 p.m. ET, June 20, 2023. Applications must be submitted to the Clean Energy Infrastructure Funding Opportunity eXCHANGE located at https://infrastructure-exchange.energy.gov/ by 5:00 p.m. ET, June 20, 2023, or they will not be considered timely filed for calendar year 2023 incentive payments.

ADDRESSES: Interested parties are to submit applications electronically to the Clean Energy Infrastructure Funding Opportunity eXCHANGE, located at https://infrastructure-exchange.energy.gov/. The guidance is available via the GDO website https://www.energy.gov/gdo/section-243-hydroelectric-efficiency-improvement-incentives-program.

FOR FURTHER INFORMATION CONTACT: Questions may be addressed to Ms. Luciana Ciocci, U.S. Department of Energy, Grid Deployment Office, 1000 Independence Ave. SW, Washington, DC 20585, (202) 480-5768 or by email at hydroelectricincentives@hq.doe.gov. Further instruction can be found in the Guidance posted at https://www.energy.gov/gdo/section-243-hydroelectric-efficiency-improvement-incentives-program. Electronic communications are recommended for correspondence.

SUPPLEMENTARY INFORMATION: The Grid Deployment Office provides notice of availability of guidance and the opening of the 2023 application period pertaining to section 243 of EPAct 2005, Hydroelectric Efficiency Improvement Incentives, as amended by section 40332 IIJA of 2021, Public Law 117-58.¹ As initially announced in the February 2023 notice of intent, the guidance sets out the eligibility requirements, general application requirements and process, procedures for processing applications, allocation of funding for eligible projects in the event of oversubscription, and funding restrictions.²

¹ Public Law 117-58, div. D, title III, § 40332(a).

² 88 FR 8837 (Feb. 10, 2023).

The guidance document describes the application process and the information necessary for the Secretary of Energy to make incentive payments to the owners and authorized operators of qualified hydroelectric facilities at existing dams to be used to make capital improvements in the facilities that are directly related to improving the efficiency of such facilities by at least three percent pursuant to section 243 of EPAct 2005.³

³ 42 U.S.C. 15882(a).

Under the statute, the incentive payments include the following limitations: an incentive payment shall not exceed 30 percent of the costs of the applicable capital improvement(s); no more than one incentive payment may be made to a single qualified hydroelectric facility in any fiscal year; and that shall not exceed $5,000,000.⁴

⁴ 42 U.S.C. 15882(b).

The guidance is available at: https://www.energy.gov/gdo/section-243-hydroelectric-efficiency-improvement-incentives-program. Each application will be reviewed based on the guidance. Interested parties are to submit applications electronically to the Clean Energy Infrastructure Funding Opportunity eXCHANGE, located at https://infrastructure-exchange.energy.gov/.

When submitting an application to DOE for section 243 of EPAct 2005, Hydroelectric Efficiency Improvement Incentives, it is recommended that applicants carefully read and review the completed contents of the guidance for this process. When reviewing applications, DOE may corroborate the information provided with information that DOE finds through FERC e-filings and other due diligence measures carried out by reviewing officials. DOE may require the applicant to conduct and submit an independent audit at its own expense, or DOE may conduct an audit to verify efficiency improvements claimed by the qualified hydroelectric facility.

A public webinar will be held in the coming weeks to provide clarity on the guidance document, as necessary. The webinar will be held in a question-and-answer format with registration details available at https://www.energy.gov/gdo/section-243-hydroelectric-efficiency-improvement-incentives-program.

Signing Authority

This document of the Department of Energy was signed on March 16, 2023, by Maria Duaime Robinson, Director of the Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 16, 2023.
Treena V. Garrett,
Federal Register Liaison Officer, U.S. Department of Energy.

[FR Doc. 2023-05759 Filed 3-21-23; 8:45 am]

BILLING CODE 6450-01-P